DEPARTMENT OF THE INTERIOR

Geological Survey

[GX19LC00BM6BB00; OMB Control Number 1028-0082]

Agency Information Collection Activities; Bird Banding and Band Recovery Reports

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before February 4, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0082 in the subject line of your comments.

FOR FURTHER INFORMATION CONTACT: To request additional information about this ICR, contact Bruce Peterjohn, Patuxent Wildlife Research Center by email at bpeterjohn@usgs.gov, or by telephone at 301-497-5646.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The Bird Banding Program is the responsibility of the U.S. Geological Survey (USGS) Bird Banding Laboratory (BBL). The BBL has a critical role in storing and maintaining data on banded and marked birds, particularly to facilitate coordination between banders and people who later encounter the marked birds, and to ensure the data are available for later analyses.

To achieve these goals, the BBL collects information using three forms: (1) The Application for Federal Bird Banding or Marking Permit, (2) The Federal Bird Banding or Marking Permit Renewal Form, and (3) The Bird Banding Recovery Report.

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

Title of Collection: Bird Banding and Band Recovery Reports.

OMB Control Number: 1028-0082.

Form Number: NA.

Type of Review: Extension of a currently approved collection.

Respondents/Affected Public: General Public.

Total Estimated Number of Annual Respondents: 74,000.

Total Estimated Number of Annual Responses: 74,620.

Estimated Completion Time per Response: 3 to 30 minutes, depending on form used. The band recovery form receives approximately 74,100 responses annually. The permit application form receives approximately 80 and the permit renewal form receives approximately 440.

Total Estimated Number of Annual Burden Hours: 4000.

Respondent's Obligation: None. Participation is voluntary.

Frequency of Collection: On occasion.

Total Estimated Annual Non-hour Burden Cost: We have not identified any “non-hour cost” burdens associated with this collection of information.

An agency may not conduct or sponsor and a person is not required to respond to a collection of information unless it displays a currently valid OMB control number.

The authorities for this action are the Paperwork Reduction Act of 1995 (44 U.S.C. 3501, et seq.).

John French,
Center Director, Patuxent Wildlife Research Center.

[FR Doc. 2018-26392 Filed 12-4-18; 8:45 am]

BILLING CODE 4338-11-P